FEDERAL DEPOSIT INSURANCE CORPORATION

12 CFR Ch. III

Semiannual Agenda of Regulations

AGENCY: Federal Deposit Insurance Corporation.

ACTION: Semiannual regulatory agenda.

SUMMARY: The Federal Deposit Insurance Corporation (FDIC) is hereby publishing items for the Spring 2017 Unified Agenda of Federal Regulatory and Deregulatory Actions. The agenda contains information about FDIC's current and projected rulemakings, existing regulations under review, and completed rulemakings.

FOR FURTHER INFORMATION CONTACT: Robert E. Feldman, Executive Secretary, Federal Deposit Insurance Corporation, 550 17th Street NW., Washington, DC 20429.

SUPPLEMENTARY INFORMATION: Twice each year, the FDIC publishes an agenda of regulations to inform the public of its regulatory actions and to enhance public participation in the rulemaking process. Publication of the agenda is in accordance with the Regulatory Flexibility Act (5 U.S.C. 601 et seq.). The FDIC amends its regulations under the general rulemaking authority prescribed in section 9 of the Federal Deposit Insurance Act (12 U.S.C. 1819) and under specific authority granted by the Act and other statutes.

Proposed Rule Stage

Enhanced Cyber Risk Management Standards (3064-AE45)

On October 26, 2016, the Board of Governors of the Federal Reserve System, the Office of the Comptroller of the Currency, and the Federal Deposit Insurance Corporation published in the Federal Register an advanced notice of proposed rulemaking (ANPRM) regarding enhanced cyber risk management standards for large and interconnected entities under their supervision and those entities' service providers. The ANPRM addresses five categories of cyber standards: Cyber risk governance; cyber risk management; internal dependency management; external dependency management; and incident response, cyber resilience, and situational awareness. Due to the range and complexity of the issues addressed in the ANPRM the public comment period was extended until February 17, 2017. This action allowed interested persons additional time to analyze the proposal and prepare their comments.

* Real Estate Appraisals (3064-AE56)

The OCC, Board, FDIC, and NCUA (collectively, the Agencies) are seeking comment on a proposed rule to amend the agencies' regulations regarding appraisals of real estate, adopted pursuant to title XI of the Financial Institutions Reform, Recovery, and Enforcement Act of 1989 (Title XI). Title XI requires the agencies to adopt regulations regarding the performance of appraisals used in connection with federally related transactions (Title XI appraisals) within the jurisdiction of each agency. As discussed below, the agencies received comments requesting that the agencies require title XI appraisals for fewer transactions as part of a regulatory review process mandated by the Economic Growth and Regulatory Paperwork Reduction Act. The proposed amendments would increase the threshold level at or below which title XI appraisals are not required for commercial real estate loans to $400,000, as defined in this regulation. For commercial real estate loans below the threshold, the amended rule would require institutions to obtain an evaluation of the real property collateral consistent with safe and sound banking practices, if the institution does not obtain a title XI appraisal. The agencies also propose to amend their appraisal regulations to require that appraisals for federally related transactions are subject to appropriate review for compliance with the Uniform Standards of Professional Appraisal Practice, as required by an amendment to title XI included in section 1473(e) of the Dodd-Frank Wall Street Reform and Consumer Protection Act.

* Management Official Interlocks (3064-AE57)

The OCC, Board, and the FDIC are seeking comment on a joint proposed rule to revise their respective regulations that implement the Depository Institution Management Interlocks Act (DIMIA). The proposed rule would adjust asset thresholds for the DIMIA major asset prohibition, which prohibits management officials for depository institutions with assets in excess of specified levels from engaging in management interlocks (an individual may not serve as an official of two unaffiliated depository institutions with assets in excess of the specified levels). The levels are currently set at $2.5 billion and $1.5 billion. Based on inflation or market changes, current inflation adjusted thresholds would be $3.6 billion and $2.16 billion.

* Community Reinvestment Act Regulations (3064-AE58)

The Office of the Comptroller of the Currency, Board of Governors of the Federal Reserve System, and the Federal Deposit Insurance Corporation propose (1) To amend their regulations implementing the Community Reinvestment Act to update the existing definitions of home mortgage loan and consumer loan, related cross references, and the public file content requirements to reflect recent revisions made by the Consumer Financial Protection Bureau to Regulation C, which implements the Home Mortgage Disclosure Act, and (2) to remove obsolete references to the Neighborhood Stabilization Program.

Regulatory Capital Rules: Simplification of Generally Applicable Rules (3064-AE59)

The OCC, Board, and FDIC (the Agencies) seek comment on a joint proposed rule to revise the generally applicable capital rules with the goal of meaningfully reducing regulatory burden on community banking organizations while at the same time maintaining safety and soundness and the quality and quantity of regulatory capital in the banking system. The proposal includes (1) Replacing the framework's complex treatment of high volatility commercial real estate (HVCRE) exposures with a more straightforward treatment for most acquisition, development, or construction (ADC) loans; (2) simplifying the current regulatory capital treatment for mortgage servicing assets (MSAs), timing difference deferred tax assets (DTAs), and holdings of regulatory capital instruments issued by financial institutions; and (3) simplifying the current limitations on minority interests in regulatory capital.

* Reporting and Recordkeeping Requirements for Covered Trading Activities (3064-AE60)

The OCC, Board, FDIC, CFTC, and SEC are requesting comment on a proposed rule that would modify the reporting and recordkeeping requirements for covered trading activities under appendix A of the final rule implementing section 13 of the Bank Holding Company Act of 1956, which was added by section 619 of the Dodd-Frank Wall Street Reform and Consumer Protection Act. The Agencies adopted a final rule implementing section 13 that became effective on April 1, 2014. In appendix A of the final rule, the Agencies said they would review the data collected and revise the collection requirement as appropriate based on a review of the data collected prior to September 30, 2015.

* Source of Strength (3064-AE61)

The OCC, Board, and FDIC (the appropriate Federal banking agencies) are developing a joint Notice of Proposed Rulemaking which will be published in the Federal Register. The rule, when finalized, will implement section 616(d) of the Dodd-Frank Wall Street Reform and Consumer Protection Act (Dodd-Frank Act). That section of the Dodd-Frank Act requires the appropriate Federal banking agencies to jointly issue final rules that ensure that parent companies of subsidiary insured depository institutions serve as a source of financial strength for such institutions.

Final Rule Stage

Net Stable Funding Ratio: Liquidity Risk Measurement Standards and Disclosure Requirements (3064-AE44)

The Office of the Comptroller of the Currency, the Board of Governors of the Federal Reserve System, and the Federal Deposit Insurance Corporation invited comment on a proposed rule that would implement a stable funding requirement, the net stable funding ratio (NSFR), for large and internationally active banking organizations. The proposed NSFR requirement is designed to reduce the likelihood that disruptions to a banking organization's regular sources of funding will compromise its liquidity position, as well as to promote improvements in the measurement and management of liquidity risk. The proposed rule would also amend certain definitions in the liquidity coverage ratio rule that are also applicable to the NSFR. The proposed NSFR requirement would apply beginning on January 1, 2018, to bank holding companies, certain savings and loan holding companies, and depository institutions that, in each case, have $250 billion or more in total consolidated assets or $10 billion or more in total on-balance sheet foreign exposure, and to their consolidated subsidiaries that are depository institutions with $10 billion or more in total consolidated assets. In addition, the Board proposed a modified NSFR requirement for bank holding companies and certain savings and loan holding companies that, in each case, have $50 billion or more, but less than $250 billion, in total consolidated assets and less than $10 billion in total on-balance sheet foreign exposure. Neither the proposed NSFR requirement nor the proposed modified NSFR requirement would apply to banking organizations with consolidated assets of less than $50 billion and total on-balance sheet foreign exposure of less than $10 billion. A bank holding company or savings and loan holding company subject to the proposed NSFR requirement or modified NSFR requirement would be required to publicly disclose the company's NSFR and the components of its NSFR each calendar quarter.

* Restrictions on Qualified Financial Contracts of Certain FDIC-Supervised Institutions; Revisions to the Definition of Qualifying Master Netting Agreement and Related Definitions (3064-AE46)

The FDIC is proposing to add a new part 382 to its rules to improve the resolvability of systemically important U.S. banking organizations and systemically important foreign banking organizations and enhance the resilience and the safety and soundness of certain state savings associations and state-chartered banks that are not members of the Federal Reserve System (state non-member banks or SNMBs) for which the FDIC is the primary federal regulator (together, FSIs or FDIC-supervised institutions). Under this proposed rule, covered FSIs would be required to ensure that covered qualified financial contracts (QFCs) to which they are a party provide that any default rights and restrictions on the transfer of the QFCs are limited to the same extent as they would be under the Dodd-Frank Wall Street Reform and Consumer Protection Act and the Federal Deposit Insurance Act. In addition, covered FSIs would generally be prohibited from being party to QFCs that would allow a QFC counterparty to exercise default rights against the covered FSI based on the entry into a resolution proceeding under the Dodd-Frank Act, FDI Act, or any other resolution proceeding of an affiliate of the covered FSI.

The proposal would also amend the definition of qualifying master netting agreement in the FDIC's capital and liquidity rules, and certain related terms in the FDIC's capital rules. These proposed amendments are intended to ensure that the regulatory capital and liquidity treatment of QFCs to which a covered FSI is party would not be affected by the proposed restrictions on such QFCs. The requirements of this proposed rule are substantively identical to those contained in notice of proposed rulemaking issued by the Board of Governors of the Federal Reserve System on May 3, 2016, regarding covered entities, and the notice of proposed rulemaking issued by the Office of the Comptroller of the Currency on August 19, 2016, regarding covered banks.

* Removal of Transferred OTS Regulations Regarding Minimum Security Procedures Amendments (3064-AE47)

The Federal Deposit Insurance Corporation proposed to rescind and remove a part from the Code of Federal Regulations entitled Security Procedures and to amend FDIC regulations to make the removed Office of Thrift Supervision regulations applicable to State savings associations.

* Removal of Transferred OTS Regulations Regarding Consumer Protection in Sales of Insurance and Amendments to FDIC Consumer Protection in Sales of Insurance Regulation (3064-AE49)

The Federal Deposit Insurance Corporation (FDIC) proposed to rescind and remove from the Code of Federal Regulations 12 CFR part 390, subpart I, entitled Consumer Protection in Sales of Insurance. This subpart was included in the regulations that were transferred to the FDIC from the Office of Thrift Supervision on July 21, 2011, in connection with the implementation of applicable provisions of title III of the Dodd-Frank Wall Street Reform and Consumer Protection Act. The requirements for State savings associations in part 390, subpart I are substantively similar to the requirements in the FDIC's 12 CFR part 343, which is also entitled Consumer Protection in Sales of Insurance and is applicable for all insured depository institutions (IDIs) for which the FDIC has been designated the appropriate Federal banking agency.

The FDIC proposed to rescind in its entirety part 390, subpart I and to modify the scope of part 343 to include State savings associations and their subsidiaries to conform to and reflect the scope of the FDIC's current supervisory responsibilities as the appropriate Federal banking agency. The FDIC also proposed to define FDIC-supervised insured depository institution or institution and State savings association. Finally, the FDIC proposed to transfer an anticoercion and antitying provision from part 390, subpart I that is applicable to State savings associations. Upon removal of part 390, subpart I, the Consumer Protection in Sales of Insurance, regulations applicable for all IDIs for which the FDIC has been designated the appropriate Federal banking agency will be found at 12 CFR part 343.

* Loans in Areas Having Special Flood Hazards—Private Flood Insurance (3064-AE50)

The Office of the Comptroller of the Currency, the Board of Governors of the Federal Reserve System, the Federal Deposit Insurance Corporation, the Farm Credit Administration, and the National Credit Union Administration have issued a new proposal to amend their regulations regarding loans in areas having special flood hazards to implement the private flood insurance provisions of the Biggert-Waters Flood Insurance Reform Act of 2012. Specifically, the proposed rule would require regulated lending institutions to accept policies that meet the statutory definition of private flood insurance in the Biggert-Waters Act and permit regulated lending institutions to accept flood insurance provided by private insurers that does not meet the statutory definition of private flood insurance on a discretionary basis, subject to certain restrictions.

* Regulatory Capital Rules: To Rescind the FDIC's Capital Rules That Are No Longer Effective Following the Implementation of Capital Rules Consistent With Basel III (3064-AE51)

This final rule rescinds the capital regulations in part 325 and subparts Y and Z of part 390 of the FDIC's codified rules (the superseded capital rules) that were no longer effective following the January 1, 2015, implementation of the capital rules consistent with the Basel III initiatives. The final rule also makes conforming changes to sections in the FDIC's codified rules that refer to the superseded capital rules. The FDIC has concluded that good cause exists to publish this rule as final without a period of notice and comment and with an effective date as of the date of its publication in the Federal Register because this rule rescinds the superseded capital rules and other sections of the FDIC's codified rules that refer to the superseded capital rules and imposes no new requirement on FDIC-supervised institutions.

* Revision of the FDIC's Freedom of Information Act Regulations (3064-AE53)

This rule amends the Federal Deposit Insurance Corporation's regulations under the Freedom of Information Act (FOIA) to incorporate certain changes made to the FOIA by the FOIA Improvement Act of 2016. In addition, this rule amends certain provisions to reflect changes brought about by prior amendments to the FOIA that had been incorporated into Agency practice and corrects inaccurate contact information and adjusts numbering and lettering of current provisions because of additions to the regulations.

* Recordkeeping Requirements for Qualified Financial Contracts (3064-AE54)

The FDIC proposes to amend its regulations regarding Recordkeeping Requirements for Qualified Financial Contracts (Part 371) which requires insured depository institutions (IDIs) in a troubled condition to keep records relating to qualified financial contracts (QFCs) to which they are party. The proposed rule would (i) Simplify QFC recordkeeping for large banks by aligning requirements with the rule of the US Treasury governing QFC recordkeeping of certain non-bank affiliates; (ii) require such large banks to keep QFC records of certain of their subsidiaries; (iii) for all other IDIs subject to part 371, add and delete a limited number of data requirements and make certain formatting changes with respect to the QFC recordkeeping requirements; (iv) provide additional time for certain IDIs in a troubled condition to comply with part 371; and (v) include certain other changes, including changes relating to certain extension procedures and clarifications relating to the timing for creation of daily records.

Long-Term Actions

Incentive-Based Compensation Arrangements (3064-AD86)

The OCC, Board, FDIC, FHFA, NCUA, and SEC (the Agencies) sought comment on a joint proposed rule to revise the proposed rule the Agencies published in the Federal Register on April 14, 2011, and to implement section 956 of the Dodd-Frank Wall Street Reform and Consumer Protection Act. Section 956 generally requires that the Agencies jointly issue regulations or guidelines: (1) Prohibiting incentive-based payment arrangements that the Agencies determine encourage inappropriate risks by certain financial institutions by providing excessive compensation or that could lead to material financial loss; and (2) requiring those financial institutions to disclose information concerning incentive-based compensation arrangements to the appropriate Federal regulator.

Treatment of Certain Collateralized Debt Obligations Backed Primarily by Trust Preferred Securities; Prohibitions and Restrictions on Certain Interests in Hedge Funds and Private Equity Funds (3064-AE11)

The Office of the Comptroller of the Currency, the Federal Reserve Board, the Federal Deposit Insurance Corporation, the U.S. Commodity Futures Trading Commission, and the Securities Exchange Commission (individually, an Agency, and collectively, the Agencies) will be adopting an interim final rule that would permit banking entities to retain investments in certain pooled investment vehicles that invested their offering proceeds primarily in trust preferred or subordinated debt securities issued by community banking organizations of the type grandfathered under section 171 of the Dodd-Frank Wall Street Reform and Consumer Protection Act. The interim final rule is a companion rule to the final rules adopted by the Agencies to implement section 13 of the Bank Holding Company Act of 1956, which was added by section 619 of the Dodd-Frank Act.

Removal of Transferred Office of Thrift Supervision Regulations Regarding Lending and Investment and Amendments to FDIC Rules and Regulations (3064-AE22)

In this rulemaking, the Federal Deposit Insurance Corporation (FDIC) will be proposing to rescind and remove from the Code of Federal Regulations 12 CFR part 390, subpart P, entitled Lending and Investment (part 390, subpart P). This subpart was included in the regulations that were transferred to the FDIC from the Office of Thrift Supervision on July 21, 2011, in connection with the implementation of applicable provisions of title III of the Dodd-Frank Wall Street Reform and Consumer Protection Act. Upon removal of part 390, subpart P, all insured depository institutions for which the FDIC is the appropriate Federal banking agency will follow the safety and soundness standards contained in 12 CFR part 364 of the FDIC's Rules and Regulations and the real-estate lending standards found in 12 CFR part 365 of the FDIC's Rules.

Transferred Office of Thrift Supervision Regulations Regarding Fiduciary Powers of State Savings Associations (3064-AE23)

The Federal Deposit Insurance Corporation (FDIC) will be proposing to rescind and remove from the Code of Federal Regulations 12 CFR part 390 subpart J, entitled Fiduciary Powers of State Savings Associations and all references thereto, and amend certain sections of 12 CFR parts 333 and 303 regarding consent to exercise trust powers to reflect their applicability to State savings associations. Part 390 subpart J was included in the regulations that were transferred to the FDIC from the Office of Thrift Supervision on July 21, 2011, in connection with the implementation of applicable provisions of title III of the Dodd-Frank Wall Street Reform and Consumer Protection Act. Upon removal of part 390 subpart J from the FDIC rules and regulations and adopting of the amendment to parts 333 and 303 proposed herein, all State nonmember banks and State savings associations seeking consent to exercise trust powers not previously granted by its chartering authority will be required to comply with FDIC rules governing applications for consent to exercise trust powers.

Alternatives to Credit Ratings With Respect to Permissible Activities for Foreign Branches of Insured State Nonmember Banks and Pledge of Assets by Insured Domestic Branches of Foreign Banks (3064-AE36)

The FDIC sought public comment on a proposed rule to amend its international banking regulations (Part 347) consistent with section 939A of the Dodd-Frank Wall Street Reform and Consumer Protection Act (Dodd-Frank Act) and the FDIC's authority under section 5(c) of the Federal Deposit Insurance Act. Section 939A directs each Federal agency to review and modify regulations that reference credit ratings. The rule would amend the provisions of subparts A and B of part 347 that reference credit ratings. Subpart A, which sets forth the FDIC's requirements for insured State nonmember banks that operate foreign branches, would be amended to replace references to credit ratings in the definition of “investment grade” with a standard of creditworthiness that has been adopted in other Federal regulations that conform with section 939A. Subpart B would be amended to revise the FDIC's asset pledge requirement for insured U.S. branches of foreign banks. The eligibility criteria for the types of assets that foreign banks may pledge would be amended by replacing the references to credit ratings with the revised definition of investment grade. The rule would apply this investment grade standard to each type of pledgeable asset, establish a liquidity requirement for such assets, and subject them to a fair value discount. The proposed rule would also introduce cash as a new asset type that foreign banks may pledge under subpart B and create a separate asset category expressly for debt securities issued by government sponsored enterprises.

Covered Broker-Dealer Provisions Under Title II of the Dodd-Frank Wall Street Reform and Consumer Protection Act (3064-AE39)

The Federal Deposit Insurance Corporation and the Securities and Exchange Commission, in accordance with section 205(h) of the Dodd-Frank Wall Street Reform and Consumer Protection Act, jointly proposed a rule to implement provisions applicable to the orderly liquidation of covered brokers and dealers under title II of the Dodd-Frank Act.

Completed Actions

Regulatory Capital Rules, Liquidity Coverage Ratio: Revisions to the Definition of Qualifying Master Netting Agreement and Related Definitions (3064-AE30)

The FDIC is adopting a final rule that amends the definition of qualifying master netting agreement under the regulatory capital rules and the liquidity coverage ratio rule. In this final rule, the FDIC also is amending the definitions of collateral agreement, eligible margin loan, and repo-style transaction under the regulatory capital rules. These amendments are designed to ensure that the regulatory capital and liquidity treatment of certain financial contracts generally would not be affected by implementation of special resolution regimes in non-U.S. jurisdictions that are substantially similar to the U.S. resolution framework or by changes to the International Swaps and Derivative Association Master Agreement that provide for contractual submission to such regimes. The Office of the Comptroller of the Currency and the Board of Governors of the Federal Reserve System issued in December 2014, a joint interim final rule that is substantially identical to this final rule.

Recordkeeping for Timely Deposit Insurance Determination (3064-AE33)

The FDIC is adopting a final rule to facilitate prompt payment of FDIC-insured deposits when large insured depository institutions fail. The final rule requires each insured depository institution that has two million or more deposit accounts to (1) Configure its information technology system to be capable of calculating the insured and uninsured amount in each deposit account by ownership right and capacity, which would be used by the FDIC to make deposit insurance determinations in the event of the institution's failure, and (2) maintain complete and accurate information needed by the FDIC to determine deposit insurance coverage with respect to each deposit account, except as otherwise provided.

Expanded Examination Cycle for Certain Small Insured Depository Institutions and U.S. Branches and Agencies of Foreign Banks (3064-AE42)

The Office of the Comptroller of the Currency, the Federal Reserve System, and the Federal Deposit Insurance Corporation (collectively, the Agencies) are jointly adopting as final and without change the agencies' interim final rules published in the Federal Register on February 29, 2016, that implemented section 83001 of the Fixing America's Surface Transportation Act (FAST Act). Section 83001 of the FAST Act permits the agencies to conduct a full-scope, onsite examination of qualifying insured depository institutions with less than $1 billion in total assets no less than once during each 18-month period. Prior to enactment of the FAST Act, only qualifying insured depository institutions with less than $500 million in total assets were eligible for an 18-month on-site examination cycle. The final rules, like the interim final rules, generally allow well capitalized and well managed institutions with less than $1 billion in total assets to benefit from the extended 18-month examination schedule. In addition, the final rules adopt as final parallel changes to the agencies' regulations governing the onsite examination cycle for U.S. branches and agencies of foreign banks, consistent with the International Banking Act of 1978. Finally, through this rulemaking, the FDIC has integrated its regulations regarding the frequency of safety and soundness examinations for State nonmember banks and State savings associations.

* Guidelines Establishing Standards for Corporate Governance and Risk Management for Covered Institutions With Average Total Consolidated Assets of $10 Billion or More (3064-AE48)

To improve corporate governance and risk management at insured State banks, State savings associations, and insured State branches of foreign banks that have average total consolidated assets of $10 billion or more, the FDIC is proposing to issue new corporate governance and risk management guidelines under its safety and soundness authority provided by section 39 of the Federal Deposit Insurance Act. The proposed Guidelines would be enforceable under section 39. The FDIC also proposes to amend parts 308 and 364 of its regulations to implement the proposed Guidelines.

* Rules of Practice and Procedure (3064-AE52)

The Federal Deposit Insurance Corporation is adjusting the maximum amount of each civil money penalty within its jurisdiction to account for inflation. This action is required by the Federal Civil Penalties Inflation Adjustment Act Improvements Act of 2015. The FDIC is also amending its rules of practice and procedure under 12 CFR part 308 to cross-reference the annual adjustments that will be published in the Federal Register and to correct a technical error from the previous inflation-adjustment rulemaking.

* Disclosure and Reporting of CRA-Related Agreements (3064-AE55)

The Office of the Comptroller of the Currency, the Board of Governors of the Federal Reserve System, and the Federal Deposit Insurance Corporation (collectively, the Agencies) are inviting comment on a notice of proposed rulemaking that would amend the Agencies' rules on disclosure and reporting of Community Reinvestment Act-related agreements to remove the quarterly reporting requirement and an obsolete provision.

Federal Deposit Insurance Corporation.
Robert E. Feldman,
Executive Secretary.

Federal Deposit Insurance Corporation—Proposed Rule Stage
Sequence No. | Title | Regulation Identifier No.
374 | 12 CFR 324 Regulatory Capital Rules: Simplification of Generally Applicable Rules | 3064-AE59

FEDERAL DEPOSIT INSURANCE CORPORATION (FDIC)

Proposed Rule Stage

374. • Regulatory Capital Rules: Simplification of Generally Applicable Rules

Legal Authority: 12 U.S.C. 1819(a)(Tenth); 12 U.S.C. 1831o; 12 U.S.C. 3907; 12 U.S.C. 5371

Abstract: The OCC, Board, and FDIC (the Agencies) seek comment on a joint proposed rule to revise the generally applicable capital rules with the goal of meaningfully reducing regulatory burden on community banking organizations while at the same time maintaining safety and soundness and the quality and quantity of regulatory capital in the banking system. The proposal includes (1) Replacing the framework's complex treatment of high volatility commercial real estate (HVCRE) exposures with a more straightforward treatment for most acquisition, development, or construction (ADC) loans; (2) simplifying the current regulatory capital treatment for mortgage servicing assets (MSAs), timing difference deferred tax assets (DTAs), and holdings of regulatory capital instruments issued by financial institutions; and (3) simplifying the current limitations on minority interests in regulatory capital.

Timetable:

Action | Date | FR Cite
NPRM | 09/00/17 |

Regulatory Flexibility Analysis Required: Yes.

Agency Contact: Bobby R. Bean, Associate Director, Federal Deposit Insurance Corporation, 550 17th Street NW., Washington, DC 20429, Phone: 202 898-3575, Email: bbean@fdic.gov.

Ryan Billingsley, Chief, Capital Policy Section, Federal Deposit Insurance Corporation, 550 17th Street NW., Washington, DC 20429, Phone: 202 898-3797, Email: rbillingsley@fdic.gov.

Benedetto Bosco, Chief, Capital Policy Section, Federal Deposit Insurance Corporation, 550 17th Street NW., Washington, DC 20459, Phone: 202 898-6853, Email: bbosco@fdic.gov.

Michael Phillips, Counsel, Federal Deposit Insurance Corporation, 550 17th Street NW., Washington, DC 20429, Phone: 202 898-3581, Email: mphillips@fdic.gov.

Rachel J. Ackmann, Senior Attorney, Federal Deposit Insurance Corporation, 550 17th Street NW., Washington, DC 20429, Phone: 202 898-6858, Email: rackmann@fdic.gov.

Catherine S. Wood, Counsel, Federal Deposit Insurance Corporation, 550 17th Street NW., Washington, DC 20459, Phone: 202 898-3788, Email: cawood@fdic.gov.

RIN: 3064-AE59

[FR Doc. 2017-17016 Filed 8-23-17; 8:45 am]

BILLING CODE 6714-01-P